DEPARTMENT OF EDUCATION

[CFDA No.: 84.319A]

Office of Educational Research and Improvement, Eisenhower Regional Mathematics and Science Education Consortia Program; Notice Inviting Applications for New Awards for Fiscal Year (FY) 2000

Purpose of the Program: The Eisenhower Regional Mathematics and Science Education Consortia Program provides a regional and national technical assistance and dissemination system that focuses on mathematics and science education to help build the capacity of States and schools to implement school reform programs; coordinate Federal, State, and local education plans and activities; and adopt, adapt, and implement promising and proven practices for improving teaching and learning. This competition supports 10 regional consortia projects that will provide these services in their respective multi-state regions.

Eligible Applicants: Eligible applicants are a private nonprofit organization of demonstrated effectiveness; an institution of higher education; an elementary or secondary school; a state or local education agency; a regional educational laboratory in consortium with the research and development center established under section 931(c)(1)(B)(i) of the Educational Research, Development, Dissemination, and Improvement Act of 1994; or any combination of these entities.

Applications Available: March 3, 2000.

Deadline for Transmitting Applications: April 17, 2000.

Deadline for Intergovernmental Review: June 16, 2000.

Estimated Available Funds: Up to $14,750,000.

Estimated Maximum Award: $1,470,000 for the first budget year and $1,475,000 for each of years 2-5.

Estimated Average Size of Awards: $1,470,000 for the first budget year and $1,475,000 for each of years 2-5.

Maximum Award: We will reject any application that proposes funding in excess of the estimated maximum award in a given year.

Estimated Number of Awards: 10.

Budget Period: 12 Months.

Project Period: 60 Months.

Note: The Department is not bound by any estimates in this notice.

Applicable Regulations: The Education Department General Administrative Regulations (EDGAR) in 34 CFR parts 74, 75, 77, 79, 80, 81, 82, 85, 86, 97, 98, and 99.

Priorities: This competition focuses on projects designed to meet priorities that we have chosen from allowable activities specified in the program statute (see 34 CFR 75.105(b)(2)(v) and section 13302 of the Improving America's Schools Act of 1994 (20 U.S.C. 8672)).

Absolute Priority 1. Projects must propose activities that assist, train, and provide technical assistance to classroom teachers, administrators, and other educators to identify, implement, assess, or adapt mathematics and science education instructional materials, teaching methods, and assessment tools.

Absolute Priority 2. Projects must propose activities that implement programs and activities designed to meet the needs of groups that are underrepresented in, and underserved by, mathematics and science education.

Under 34 CFR 75.105(c)(3) we consider only applications that meet all of the priorities.

For Applications Contact: Judy Collins, U.S. Department of Education, 555 New Jersey Avenue, NW., room 502, Washington, DC, 20208-5645. Telephone: (202) 219-2116. Email: judy_collins@ed.gov. If you use a telecommunications device for the deaf (TDD), you may call the Federal Information Relay Service (FIRS) at 1-800-877-8339.

FOR FURTHER INFORMATION CONTACT: Jill Edwards Staton, U.S. Department of Education, 555 New Jersey Avenue, NW., room 502b, Washington, DC 20208-5645. Telephone: (202) 219-1669. Email: jill_edwards@ed.gov. If you use a telecommunications device for the deaf (TDD), you may call the Federal Information Relay Service (FIRS) at 1-800-877-8339.

Individuals with disabilities may obtain this document in an alternative format (e.g., Braille, large print, audiotape, or computer diskette) on request to the program contact person listed under For Further Information Contact. Individuals with disabilities may obtain a copy of the application package in an alternative format by contacting that person. However, the Department is not able to reproduce in an alternative format the standard forms included in the application package.

Application Procedures

Note: Some of the procedures in this notice for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

The U.S. Department of Education (we) are conducting a limited pilot project of electronic submission of discretionary grant applications for selected programs. Eisenhower Regional Mathematics and Science Education Consortia Program (CFDA No. 84.319A) is one of the programs included in the pilot project. If you are an applicant under Eisenhower Regional Mathematics and Science Education Consortia Program, you may submit your application to us in either electronic or paper format.

The pilot project involves the use of the Electronic Grant Application System (e-GAPS) portion of the Grant Administration and Payment System (GAPS). We request your participation in the e-GAPS pilot project. By participating, you will have an opportunity to have input into the overall design and approach of e-GAPS. At the conclusion of the pilot project, we will evaluate its success and solicit suggestions for improvements.

If you participate as a grant applicant in an e-GAPS pilot, please note the following:

• Your participation is voluntary.

• You will not receive any additional point value or penalty because you submit a grant application in electronic or paper format.

• You can submit all documents electronically, including the Application for Federal Education Assistance (ED 424), Budget Information-Non-Construction Programs (ED Form No. 524), and all necessary assurances and certifications. We may request that you give us original signatures on forms at a later date.

You may access the electronic grant application for Eisenhower Regional Mathematics and Science Education Consortia Program at: http://e-grants.ed.gov.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC area, at (202) 512-1530.

Note: The official version of this document is the version published in the Federal Register. Free Internet access to the official edition of the Federal Register and the Code of Federal Regulations is available on GPO Access at: http://www.access.gpo.gov/nara/index.html

Program Authority: 20 U.S.C. 8671-8678.

Dated: February 29, 2000.
C. Kent McGuire,
Assistant Secretary, Office of Educational Research and Improvement.

[FR Doc. 00-5253 Filed 3-2-00; 8:45 am]

BILLING CODE 4000-01-P